NATIONAL SCIENCE FOUNDATION

Sunshine Act Meeting

Agency Holding Meeting: National Science Foundation, National Science Board.

Date and Time: May 12, 2003: 1:30 p.m.-2:45 p.m.—Open Session.

Place: The National Science Foundation, 4201 Wilson Boulevard, Arlington, VA 22230, http://www.nsf.gov/nsb.

For Further Information Contact: Cathy Hines, (703) 292-7000.

Status: This meeting will be open to the public.

Matters to be Considered:

Monday, May 12, 2003

Open: NSB Subcommittee on S&E Indicators, Teleconference, Room 120.

• Reviewer comments on Chapter 1, K-12 Education

Cathy Hines,
Operations Officer, NSBO.

[FR Doc. 03-11896 Filed 5-8-03; 12:26 pm]

BILLING CODE 7555-01-M